DEPARTMENT OF THE TREASURY

Internal Revenue Service

26 CFR Part 1

[REG-106681-02]

RIN 1545-BA59

Modification of Check the Box; Correction

AGENCY: Internal Revenue Service (IRS), Treasury.

ACTION: Correction to notice of proposed rulemaking.

SUMMARY: This document corrects a notice of proposed rulemaking (REG-106681-02) that was published in the Federal Register on Thursday, April 1, 2004 (69 FR 17117) that clarifies that qualified REIT subsidiaries, qualified subchapter S subsidiaries, and single owner eligible entities that are disregarded as entities separate from their owners are treated as separate entities for purposes of any Federal tax liability for which the entity is liable.

FOR FURTHER INFORMATION CONTACT: James M. Gergurich, (202) 622-3070 (not a toll-free number).

SUPPLEMENTARY INFORMATION:

Background

The notice of proposed rulemaking (REG-106681-02) that is the subject of this correction is under section 856 of the Internal Revenue Code.

Need for Correction

As published, the notice of proposed rulemaking and notice of public hearing (REG-106681-02) contains an error that may prove to be misleading and is in need of clarification.

Correction of Publication

Accordingly, the notice of proposed rulemaking and notice of public hearing (REG-106681-02) which is the subject of FR. Doc. 04-7088, is corrected as follows:

§ 1.1361-4 [Corrected]

1. On page 17119, column 1, § 1.1361-4, paragraph (a)(6)(i), line 3, the language “otherwise not treated as a corporation” is corrected to read “generally not treated as a corporation”.

Cynthia E. Grigsby,
Acting Chief, Publications and Regulations Branch, Legal Processing Division, Associate Chief Counsel (Procedures and Administration).

[FR Doc. 04-9311 Filed 4-23-04; 8:45 am]

BILLING CODE 4830-01-P